DEPARTMENT OF TRANSPORTATION

Federal Railroad Administration

[Docket No. FRA-2000-7257; Notice No. 55]

Railroad Safety Advisory Committee; Notice of Meeting

AGENCY: Federal Railroad Administration (FRA), Department of Transportation (DOT).

ACTION: Announcement of Railroad Safety Advisory Committee (RSAC) Meeting.

SUMMARY: FRA announces the fortieth meeting of the RSAC, a Federal advisory committee that develops railroad safety regulations through a consensus process. The RSAC meeting topics will include opening remarks from the FRA Administrator and discussion of the FRA High-Speed Rail Safety Strategy. Status reports will be provided by the Locomotive Standards, Passenger Safety, Track Safety Standards, and Medical Standards Working Groups. Status updates will be provided on the following tasks arising out of the Rail Safety Improvement Act (RSIA): Positive Train Control, Passenger Hours of Service, Railroad Bridge Safety Management, and Conductor Certification. The Committee may also be asked to accept a task regarding another RSIA-mandated rulemaking addressing Critical Incident Programs. This agenda is subject to change, including the possible addition of further proposed tasks under the RSIA.

DATES: The meeting of the RSAC is scheduled to commence at 9:30 a.m. on Thursday, September 10, 2009, and will adjourn by 4:30 p.m.

ADDRESSES: The RSAC meeting will be held at the Washington Marriott Hotel, located at 1221 22nd Street, NW., Washington, DC 20037. The meeting is open to the public on a first-come, first-served basis, and is accessible to individuals with disabilities. Sign and oral interpretation can be made available if requested 10 calendar days before the meeting.

FOR FURTHER INFORMATION CONTACT: Larry Woolverton, RSAC Administrative Officer/Coordinator, FRA, 1200 New Jersey Avenue, SE., Mailstop 25, Washington, DC 20590, (202) 493-6212; or Grady Cothen, Deputy Associate Administrator for Safety, FRA, 1200 New Jersey Avenue, SE., Mailstop 25, Washington, DC 20590, (202) 493-6302.

SUPPLEMENTARY INFORMATION: Pursuant to Section 10(a)(2) of the Federal Advisory Committee Act (Pub. L. 92-463), FRA is giving notice of a meeting of RSAC. RSAC was established to provide advice and recommendations to the FRA on railroad safety matters. The RSAC is composed of 54 voting representatives from 31 member organizations, representing various rail industry perspectives. In addition, there are non-voting advisory representatives from the agencies with railroad safety regulatory responsibility in Canada and Mexico, the National Transportation Safety Board, and the Federal Transit Administration. The diversity of the Committee ensures the requisite range of views and expertise necessary to discharge its responsibilities. See the RSAC Web site for details on pending tasks at: http://rsac.fra.dot.gov. Please refer to the notice published in the Federal Register on March 11, 1996 (61 FR 9740), for additional information about the RSAC.

Issued in Washington, DC on August 5, 2009.
Grady C. Cothen, Jr.,
Deputy Associate Administrator for Safety Standards and Program Development.

[FR Doc. E9-19084 Filed 8-7-09; 8:45 am]

BILLING CODE 4910-06-P